NUCLEAR REGULATORY COMMISSION

[NRC-2011-0119]

Office of New Reactors; Proposed Revision 4 to Standard Review Plan Section 8.1 on Electric Power—Introduction, Correction

AGENCY: Nuclear Regulatory Commission (NRC).

ACTION: Solicitation of public comment, correction of proposed comment date.

SUMMARY: This document amends a notice appearing in the Federal Register on May 31, 2011 (76 FR 31381), that announced the proposed Revision 4 to Standard Review Plan Section 8.1 on “Electric Power—Introduction.” The notice period for this notice closes on June 30, 2011. This action is necessary to reopen the notice period and extend the originally proposed end date for public comment from June 30, 2011, to August 31, 2011.

FOR FURTHER INFORMATION CONTACT: Mr. William F. Burton, Chief, Rulemaking and Guidance Development Branch, Division of New Reactor Licensing, Office of New Reactors, U.S. Nuclear Regulatory Commission, Washington, D.C., 20555-0001; telephone: 301-415-6332, or e-mail: William.Burton@nrc.gov.

SUPPLEMENTARY INFORMATION: On Page 31381, in the second column, Date Information, second line, the proposed period for comment of 30 days from the date of publication is extended from June 30, 2011 to August 31, 2011.

Dated at Rockville, Maryland, this 29th day of June 2011.
For the Nuclear Regulatory Commission,
William F. Burton,
Chief, Rulemaking and Guidance Development Branch, Division of New Reactor Licensing, Office of New Reactors.

[FR Doc. 2011-17015 Filed 7-6-11; 8:45 am]

BILLING CODE 7590-01-P